ENVIRONMENTAL PROTECTION AGENCY

[FRL-8773-5]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 1601.07; Air Pollution Regulations for Outer Continental Shelf Activities (Renewal); in 40 CFR part 55; was approved 01/15/2009; OMB Number 2060-0249; expires 01/31/2012.

EPA ICR Number 1189.21; F019 Listing Amendment (Final Rule); in 40 CFR 260.34, 40 CFR 261.2(a)(2)ii, 40 CFR 261.4(a)23-25, and 40 CFR 261.31; was approved 01/27/2009; OMB Number 2050-0053; expires 01/31/2012.

EPA ICR Number 1831.04; NESHAP for Ferroalloys Production: Ferromanganese and Silicomanganese (Renewal); in 40 CFR part 63, subpart XXX; was approved 01/27/2009; OMB Number 2060-0391; expires 01/31/2012.

EPA ICR Number 1957.05; NESHAP for Metal Coil Surface Coating Plants (Renewal); in 40 CFR part 63, subpart SSSS; was approved 01/27/2009; OMB Number 2060-0487; expires 01/31/2012.

EPA ICR Number 0959.13; Facility Ground-Water Monitoring Requirements (Renewal); in 40 CFR 264.98, 40 CFR 264.99, 40 CFR 264.100, 40 CFR 265.90, 40 CFR 265.91, 40 CFR 265.92, 40 CFR 265.93 and 40 CFR 265.94; was approved 01/27/2009; OMB Number 2050-0033; expires 01/31/2012.

EPA ICR Number 2298.02; NESHAP for Nine Metal Fabrication and Finishing Source Categories (Final Rule); in 40 CFR part 63, subpart XXXXXX; was approved 01/28/2009; OMB Number 2060-0622; expires 01/31/2012.

EPA ICR Number 2048.03; BEACH Act Grant Program (Renewal); was approved 01/29/2009; OMB Number 2040-0244; expires 01/31/2012.

EPA ICR Number 1658.06; Control Technology Determination for Constructed or Reconstructed Major Sources of Hazardous Air Pollutants (Renewal); in 40 CFR part 63, subpart B; was approved 01/29/2009; OMB Number 2060-0373; expires 01/31/2012.

EPA ICR Number 1935.03; Standardized Permit for RCRA Hazardous Waste Management Facilities (Renewal); in 40 CFR part 267, 40 CFR 270.290, and 40 CFR 270.300-270.315; was approved 01/29/2009; OMB Number 2050-0182; expires 01/31/2012.

EPA ICR Number 2294.02; NESHAP for Plating and Polishing Area Sources (Final Rule); in 40 CFR part 63, subpart WWWWWW; was approved 01/30/2009; OMB Number 2060-0623; expires 01/31/2012.

EPA ICR Number 0969.08; Final Authorization for Hazardous Waste Management (Renewal); in 40 CFR 271.5-271.8, 40 CFR 271.20-271.21 and 40 CFR 271.23; was approved 02/06/2009; OMB Number 2050-0041; expires 02/29/2012.

EPA ICR Number 1608.05; State program Adequacy Determination: Municipal Solid Waste Landfills (MSWLFs) and Non-municipal, Non-hazardous Waste Disposal Units that Receive Conditionally Exempt Small Quantity Generator Hazardous Waste (Renewal); in 40 CFR part 239, 40 CFR part 257 and 40 CFR part 258; was approved 02/06/2009; OMB Number 2050-0152; expires 02/29/2012.

EPA ICR Number 1692.06; NESHAP for Petroleum Refineries (Renewal); in 40 CFR part 63, subpart CC; was approved 02/06/2009; OMB Number 2060-0340; expires 02/29/2012.

OMB Comments Filed

EPA ICR Number 2323.01; NESHAP for Chemical Manufacturing Area Sources (40 CFR part 63, subpart VVVVVV) (Proposed Rule); on 01/07/2009, OMB filed comment.

Dated: February 10, 2009.
John Moses,
Acting Director, Collection Strategies Division.

[FR Doc. E9-3271 Filed 2-13-09; 8:45 am]

BILLING CODE 6560-50-P